DEPARTMENT OF TRANSPORTATION

Federal Aviation Administration

Fifth Meeting: Special Committee 147 (SC 147)

AGENCY: Federal Aviation Administration (FAA), U.S. Department of Transportation (DOT).

ACTION: Eighty-First Meeting Notice of Special Committee 147.

SUMMARY: The FAA is issuing this notice to advise the public of the eighty-first meeting of the Special Committee 147.

DATES: The meeting will be held July 16th from 9:00 a.m.-5:00 p.m.

ADDRESSES: The meeting will be held at MIT McNair Building (#37), MIT Campus, Off Vassar Street, Boston, MA 02139, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Special Committee 147. The agenda will include the following:

Thursday, July 16, 2015

1. Opening Plenary Session

a. Chairmen's Opening Remarks/Introductions

b. Approval of Summary from 80th meeting of SC-147

c. Approval of Agenda

2. Report from WG 75

3. Loss of Altitude/Transponder

4. “Unjustified RAs” (60 min/1045) Brandao

a. Ad hoc group status brief

b. Proposed change document status and review

5. Working Group Reports

a. Report from SWG

b. Report from TWG

i. Safety Sub-group

ii. Xo Sub-group

c. Report from OWG

d. Report from CSG

6. ACAS X RF message typing/identification

7. Review proposed TOR Changes to include ACAS Xu

8. Review of Joint/Plenary Actions/Overflow

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 17, 2015.
Latasha Robinson,
Management & Program Analyst, NextGen, Program Oversight and Administration, Federal Aviation Administration.

[FR Doc. 2015-15272 Filed 6-19-15; 8:45 am]

BILLING CODE 4910-13-P